FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
4085F | American Logistics & Purchasing Services, Ltd., 1610 Parkview Avenue, Seaford, NY 11783 | April 20, 2003.
1803NF | Blue Sky Blue Sea, Inc. dba America Export Lines, dba International Shipping Company 12919 S. Figueroa Street, Los Angeles, CA 90061 | March 29, 2003.
13754N | L.A.S. Incorporated, 8 Hook Road, Bayonne, NJ 07002 | May 11, 2003.
4273NF | Primar International, Inc., 15402 Vantage Parkway East, Suite 314, Houston, TX 77032 | May 7, 2003.
6098N | Sunshine Express Line, Inc., 3250 N.W. North River Drive, Miami, FL 33142 | May 11, 2003.
3443F | Tradewinds Shipping Corp., 420 Sackett Point Road, Unit 4-B, New Haven, CT 06473-3171 | April 20, 2003.
16228N | Air & Sea Pak Co. dba Corrigan Air & Sea Cargo Systems, 6170 Middlebelt Road, Romulus, MI 48174 | April 28, 2003.
18051N | Dominicana Air & Ocean Freight Corp., 1332 NW 36th Street, Jamaica, NJ 33142 | May 22, 2003.
3307F | American Freight International, Inc., 8169 NW 7th Street, Miami, FL 33166 | May 16, 2003.

Sandra L. Kusumoto,
Director, Bureau of Consumer Complaints and Licensing.

[FR Doc. 03-15388 Filed 6-17-03; 8:45 am]

BILLING CODE 6730-01-P